FEDERAL MARITIME COMMISSION

Notice of Agreement Filed

The Commission hereby gives notice of the filing of the following agreement under the Shipping Act of 1984. Interested parties may submit comments on the agreement to the Secretary, Federal Maritime Commission, Washington, DC 20573, within ten days of the date this notice appears in the Federal Register. A copy of the agreement is available through the Commission's Web site (www.fmc.gov) or by contacting the Office of Agreements at (202) 523-5793 or tradeanalysis@fmc.gov.

Agreement No.: 011960-006.

Title: The New World Alliance Agreement.

Parties: American President Lines, Ltd.; APL Co. Pte, Ltd.; Hyundai Merchant Marine Co., Ltd.; and Mitsui O.S.K. Lines, Ltd. (“MOL”).

Filing Party: Robert B. Yoshitomi, Esq.; Nixon Peabody LLP; 555 West Fifth Street, 46th Floor; Los Angeles, CA 90013.

Synopsis: The amendment updates the address of American President Lines, Ltd. and allows MOL to charter space to the Evergreen Line Joint Service Agreement in the trade between South Korea and the U.S. West Coast.

By Order of the Federal Maritime Commission.
Dated: April 2, 2010.
Rachel E. Dickon,
Assistant Secretary.

[FR Doc. 2010-7897 Filed 4-7-10; 8:45 am]

BILLING CODE 6730-01-P